Title 3—

The President

Proclamation 10776 of June 14, 2024

World Elder Abuse Awareness Day, 2024

By the President of the United States of America

A Proclamation

Older Americans are the heart and soul of our families, our communities, and our Nation. But every year, up to five million older Americans face some form of abuse. Around the world, too many are denied the opportunity to age with dignity and security. During World Elder Abuse Awareness Day, we recommit to standing with elder abuse survivors, shedding light on this important issue, and creating a world in which no older person has to live in fear of violence, abuse, or neglect.

Elder abuse comes in many forms. It can include physical or emotional abuse and neglect, sexual violence, or financial exploitation. These and other abuses can leave older Americans with scars, both visible and invisible, that impact them for the rest of their lives. They can happen anywhere—at home, at a care facility, at work, or online.

Elder abuse goes against everything we stand for as a Nation—and my Administration is working relentlessly to stop it. To date, my Administration has dedicated over $430 million to Adult Protective Services, making it easier to investigate reports of elder abuse and give survivors the resources they need to heal—from emergency resources like food, shelter, and law enforcement protection to medical and mental health treatment, legal services, and financial assistance. My new Budget proposes a $30 million investment to sustain and strengthen these resources. Furthermore, I reauthorized the Violence Against Women Act and increased its funding to the highest levels to date—which includes funding for service providers, law enforcement, and prosecutors to respond to domestic and sexual violence experienced by older adults.

Concurrently, we are working to protect the savings that older Americans have worked their entire lives to build up. Last year alone, Americans over 60 years old lost over $3 billion to scams. In response, the Federal Trade Commission, the Federal Communications Commission, the Consumer Financial Protection Bureau, and other regulatory agencies are taking aggressive action to identify and crack down on loan scams, mortgage scams, junk fees, and price gouging, which too often prey on older Americans.

Meanwhile, my Administration is working to ensure that older Americans have access to the quality care they deserve—whether they are at home or in another residential setting. By signing an Executive Order on Increasing Access to High-Quality Care and Supporting Caregivers, I took the most comprehensive set of executive actions in history to support family caregivers and care workers. Additionally, we are helping home care workers get a larger share of Medicaid payments. We are ensuring nursing homes have enough staff to guarantee every resident a safe, quality environment. My new Budget would also significantly expand Medicaid home care services to reduce the long waitlist, ensure nursing homes can be regularly audited for safety and quality, and empower more older Americans to live full lives in settings of their choice.

Globally, my Administration is ensuring that our partnerships with nations abroad reflect the same care for older people that we prioritize here at home. Through the Department of State, local law enforcement agencies are training their foreign counterparts in best practices to investigate elder abuse and support survivors. We are also working to implement our Strategy on Global Women's Economic Security, which includes a focus on expanding opportunities and protections for caregivers around the world, including older women. With our Strategy to Prevent and Respond to Gender-Based Violence Globally, we are tackling violence that affects older adults, particularly older women and widows.

This World Elder Abuse Awareness Day, let us remember the integral and irreplaceable role that older Americans have in our families, our communities, and our society. Let us recommit to ensuring that they can live with the comfort, dignity, and respect they earned and deserve. Let us celebrate the blessings of their wisdom, their contributions, and their love, which nurture who we are as people and shape all that we are as a Nation.

NOW, THEREFORE, I, JOSEPH R. BIDEN JR., President of the United States of America, by virtue of the authority vested in me by the Constitution and the laws of the United States, do hereby proclaim June 15, 2024, as World Elder Abuse Awareness Day. I encourage all Americans to be diligent; work together to strengthen existing partnerships; and develop new opportunities to improve our Nation's prevention of and response to elder abuse, neglect, and exploitation.

IN WITNESS WHEREOF, I have hereunto set my hand this fourteenth day of June, in the year of our Lord two thousand twenty-four, and of the Independence of the United States of America the two hundred and forty-eighth.

[FR Doc. 2024-13667

Filed 6-18-24; 8:45 am]

Billing code 3395-F4-P